DEPARTMENT OF DEFENSE

Office of the Secretary

[Docket ID: DoD-2011-OS-0045]

Defense Transportation Regulation, Part IV

AGENCY: United States Transportation Command (USTRANSCOM), DoD.

ACTION: Notice.

SUMMARY: DOD has issued draft business rules for the electronic payment of Nontemporary Storage (NTS) invoices in the Defense Transportation Regulation (DTR) Part IV (DTR 4500.9R). This process proposes mandatory use of the DOD Third Party Payment System (TPPS) as the transaction and payment system for all NTS Transportation Service Providers (TSP). Implementation of electronic payments for NTS at all Military Services and Coast Guard installations is the goal of the Defense Personal Property Program (DP3). The initial rollout of the TPPS and the electronic payment process for NTS is scheduled for August, 2011.

DATES: Comments must be received on or before June 24, 2011.

ADDRESSES: Do not submit comments directly to the point of contact under FOR FURTHER INFORMATION CONTACT or mail your comments to any address other that what is shown below. Doing so will delay the posting of the submission. You may submit comments, identified by docket number and title, by any of the following methods:

• Federal eRulemaking Portal: http://www.regulations.gov. Follow the instructions for submitting comments.

• Mail: Federal Docket Management System Office, 1160 Defense Pentagon, OSD Mailroom 3C843, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Jim Teague, United States Transportation Command, TCJ5/4-PI, 508 Scott Drive, Scott Air Force Base, IL 62225-5357; (618) 256-9605.

SUPPLEMENTARY INFORMATION: Request comments be submitted in the identified matrix-format posted with the business rules. In furtherance of DOD's goal to develop and implement an efficient personal property program, Electronic Billing and Payment Business Rules were developed by the Military Services, DFAS and SDDC. In addition, the proposed electronic billing processes will compliment the future implementation of the Defense Personal Property Program (DP3) Phase III NTS capabilities within the Defense Personal Property System (DPS). The proposed NTS TPPS business rules are available for review on the USTRANSCOM Web site at http://www.transcom.mil/dtr/part-iv/nts.cfm.

Any subsequent modification(s) to the business rules beyond the above stated changes will be published in the Federal Register and incorporated into the Defense Transportation Regulation (DTR) Part IV (DTR 4500.9R). These program requirements do not impose a legal requirement, obligation, sanction or penalty on the public sector, and will not have an economic impact of $100 million or more.

Additional Information

A complete version of the DTR is available via the internet on the USTRANSCOM homepage at http://www.transcom.mil/dtr/part-iv.cfm.

Dated: April 20, 2011.
Morgan F. Park,
Alternate OSD Federal Register Liaison Officer, Department of Defense.

[FR Doc. 2011-9949 Filed 4-22-11; 8:45 am]

BILLING CODE 5001-06-P